NUCLEAR REGULATORY COMMISSION

[Docket No. 50-440]

Firstenergy Nuclear Operating Company; Perry Nuclear Power Plant, Unit 1; Notice of Withdrawal of Application for Amendment to Facility Operating License

The U.S. Nuclear Regulatory Commission (the Commission) has granted the request of FirstEnergy Nuclear Operating Company (the licensee), to withdraw its April 26, 2004, application for a proposed amendment to Facility Operating License No. NPF-58 for the Perry Nuclear Power Plant, Unit 1, located in Lake County, Ohio.

The proposed amendment would have revised the frequency of the Mode 5 Intermediate Range Monitoring Instrumentation CHANNEL FUNCTIONAL TEST contained in Technical Specification 3.3.1.1 from 7 days to 31 days.

The Commission had previously issued a Notice of Consideration of Issuance of Amendment published in the Federal Register on August 31, 2004 (69 FR 53109). However, by letter dated February 17, 2005, the licensee withdrew the proposed change.

For further details with respect to this action, see the application for amendment dated April 26, 2004, and the licensee's letter dated February 17, 2005, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 25th day of February 2005.
For the Nuclear Regulatory Commission.
William A. Macon, Jr.,
Project Manager, Section 2, Project Directorate III, Division of Licensing Project Management Office of Nuclear Reactor Regulation.

[FR Doc. 05-4400 Filed 3-7-05; 8:45 am]

BILLING CODE 7590-01-P